DEPARTMENT OF COMMERCE

National Institute of Standards and Technology

[Docket No.: 071017605-7606-01]

Establishment of a Laboratory Accreditation Program for Laboratories That Test Personal Body Armor

AGENCY: National Institute of Standards and Technology, Commerce.

ACTION: Notice.

SUMMARY: Under the National Voluntary Laboratory Accreditation Program (NVLAP) the National Institute of Standards and Technology (NIST) announces the establishment of a laboratory accreditation program and the availability of applications for accreditation of laboratories that perform testing of body armor using National Institute of Justice draft standard 0101.06 Ballistic Resistance of Personal Body Armor developed by the NIST Office of Law Enforcement Standards for the Department of Justice (DoJ). Additional standards may be added in the future.

DATES: Laboratories interested in seeking accreditation are required to submit an application to NVLAP and pay required fees. Laboratories wishing to be considered for accreditation in the first group must submit applications by December 15, 2007. Laboratories whose applications are received after that date will be considered on an as-received basis.

ADDRESSES: Laboratories may obtain NIST Handbook 150, NVLAP Procedures and General Requirements, NIST Handbook 150-24, Personal Body Armor, and an application for accreditation for this program by calling (301) 975-4016, by writing to NVLAP Body Armor Testing Program Manager, National Voluntary Laboratory Accreditation Program, 100 Bureau Drive/MS 2140, Gaithersburg, MD 20899-2140, or by sending e-mail to nvlap@nist.gov. All applications for accreditation must be submitted to: NVLAP/Accounts, National Institute of Standards and Technology, Building 101, Room A800, 100 Bureau Drive/MS 1624, Gaithersburg, MD 20899-1624.

FOR FURTHER INFORMATION CONTACT: Hazel M. Richmond, Program Manager, NIST/NVLAP, 100 Bureau Drive/MS 2140, Gaithersburg, MD 20899-2140, Phone: (301) 975-3024, or e-mail: hazel.richmond@nist.gov. Information regarding NVLAP and the accreditation process can be viewed at http://www.nist.gov.nvlap.

SUPPLEMENTARY INFORMATION:

Background

The United States Department of Justice (DoJ), National Institute of Justice (NIJ) requested that NIST establish a laboratory accreditation program for laboratories that test body armor for the DoJ law enforcement certification program. In response to the request from NIJ, and after consultation with interested parties through public workshops and other means, the Chief of NVLAP established an accreditation program for laboratories that test for the ballistic resistance of personal body armor.

This notice is issued in accordance with NVLAP procedures and general requirements, found in Title 15 Part 285 of the Code of Federal Regulations.

Technical Requirements for the Accreditation Process

NVLAP assessments are conducted in accordance with the National Voluntary Laboratory Accreditation Program regulations, which are found at 15 CFR 285. NVLAP accreditation is in full conformance with relevant standards of the International Organization for Standardization (ISO) and the International Electrotechnical Commission (IEC), including ISO/IEC 17025.

Accreditation is granted to a laboratory following successful completion of a process, which includes submission of an application and payment of fees by the laboratory, a review of the laboratory management system documentation, an on-site assessment by technical experts, participation in proficiency testing, and resolution of any management system or technical nonconformities identified during any phase of the application process. The accreditation is formalized through issuance of a Certificate of Accreditation and Scope of Accreditation.

General requirements for accreditation are given in NIST Handbook 150, NVLAP Procedures and General Requirements. The specific technical and administrative requirements for the program for accreditation of laboratories that test body armor are given in the draft NIST Handbook 150-24, Personal Body Armor. Laboratories must meet all NVLAP criteria and requirements in order to become accredited. To be considered for accreditation, the applicant laboratory must provide a completed application to NVLAP, pay all required fees, agree to conditions for accreditation, and must be competent to perform the tests prescribed in the standard.

Application Requirements

(1) Legal name and full address of the laboratory;

(2) Ownership of the laboratory;

(3) Authorized Representative's name and contact information;

(4) Names, titles, and contact information for laboratory staff nominated to serve as Approved Signatories of test or calibration reports that reference NVLAP accreditation;

(5) Organization chart defining relationships that are relevant to performing testing and calibrations covered in the accreditation request;

(6) General description of the laboratory, including its facilities and scope of operations; and

(7) Requested scope of accreditation.

For this program, the laboratory shall provide a copy of its management system documents, including quality manual and related documentation, where appropriate, prior to the on-site assessment. NVLAP will review the management system documentation and discuss any nonconformities with the Authorized Representative before the on-site visit. Laboratories that apply for accreditation will be required to pay NVLAP fees and undergo on-site assessment and shall meet proficiency testing requirements before initial accreditation can be granted.

Paperwork Reduction Act

This action contains a collection of information requirements subject to review and approval by the Office of Management and Budget (OMB) under the Paperwork Reduction Act (PRA) of 1995. Collection activities for NVLAP are currently approved by OMB under control number 0693-0003. Notwithstanding any other provisions of the law, no person is required to respond to, nor shall any person be subject to a penalty for failure to comply with a collection of information unless it displays a currently valid OMB Control Number.

Dated: November 6, 2007.
Richard F. Kayser,
Acting Deputy Director.

[FR Doc. E7-22266 Filed 11-13-07; 8:45 am]

BILLING CODE 3510-13-P